ENVIRONMENTAL PROTECTION AGENCY

[ER-FRL-8586-4]

Environmental Impacts Statements; Notice of Availability

Responsible Agency: Office of Federal Activities, General Information (202) 564-1399 or http://www.epa.gov/compliance/nepa/.

Weekly Receipt of Environmental Impact Statements Filed 09/29/2008 Through 10/03/2008 Pursuant to 40 CFR 1506.9

EIS No. 20080401, Draft Supplement, FHW, OR, Sunrise Project, Proposes to Build a New East-West Oriented, Limited-Access Highway between I-205 to Rock Creek Junction, Funding and U.S. Army COE Section 404 Permit, Clackamas County, Oregon, Comment Period Ends: 11/28/2008, Contact: Thomas Picco 503-731-8230.

EIS No. 20080402, Final EIS, AFS, MT, Whitetail-Pipestone Travel Management, Develop Site-Specific Travel Management Plan, Jefferson and Butte Ranger Districts, Beaverhead-Deerlodge National Forest, Jefferson and Silver Bow Counties, MT, Wait Period Ends: 11/10/2008, Contact: Terry Sexton 406-287-3223.

EIS No. 20080403, Final EIS, FHW, UT, Layton Interchange Project, Improvements on I-15 (Exit-330) to Provide Unrestricted Access Across the Unicon Pacific Railroad and to Address Traffic Congestion on Gentile St. in West Layton, Layton City, UT, Wait Period Ends: 11/10/2008, Contact: Doug Atkin 801-963-0182.

EIS No. 20080404, Draft EIS, DOI, 00, Grand Staircase—Escalante National Monument (GSENM), Draft Monument Management Plan Amendment & Draft Rangeland Health, Implementation, Portions of Kane and Garfield, Utah and Coconino County, AZ, Comment Period Ends: 01/08/2009, Contact: Paul Chapman 435-644-4309.

EIS No. 20080405, Draft Supplement, COE, LA, Inner Harbor Navigation Canal (IHNC) Lock Replacement Project, Proposal for Relieving Navigation Traffic Congestion Associated with IHNC Lock, Located between the St. Claude Avenue and North Claibone Avenue Bridge, Orleans, LA, Comment Period Ends: 11/25/2008, Contact: Richard E. Boe 504-862-1505.

EIS No. 20080406, Final EIS, BIA, MT, Absaloka Mine Crow Reservation South Extension Coal Lease Approval, Proposed Mine Development Plan, and Related Federal and State Permitting Actions, Crow Indian Reservation, Crow Tribe, Bighorn County, MT, Wait Period Ends: 11/10/2008, Contact: Rick Stefanic 406-247-7911.

EIS No. 20080407, Draft EIS, AFS, CA, Moonridge Animal Park Relocation Project, Application for a Special-Use-Permit to Construct and Operate a Wild Animal Park and Associated Facilities, Mountaintop Ranger District, San Bernardino National Forest, San Bernardino County, CA, Comment Period Ends: 11/24/2008, Contact: Paul Bennett 909-382-2819.

EIS No. 20080408, Draft EIS, COE, GA, Fort McPherson Project, Disposal and Reuse, Implementation, in City Limits of Atlanta, Fulton County, GA, Comment Period Ends: 12/19/2008, Contact: Bob Ross 703-602-2878.

EIS No. 20080409, Draft EIS, COE, CO, Fort Carson Grow the Army Stationing Decision, Constructing New Facilities to Support Additional Soldiers and their Families, Portions of El Paso, Pueblo and Fremont Counties, CO, Comment Period Ends: 11/24/2008, Contact: Michael Ackerman 410-436-2522.

Dated: October 7, 2008.
Robert W. Hargrove,
Director, NEPA Compliance Division, Office of Federal Activities.

[FR Doc. E8-24171 Filed 10-9-08; 8:45 am]

BILLING CODE 6560-50-P